DEPARTMENT OF COMMERCE

Economic Development Administration

Notice of Petitions by Firms for Determination of Eligibility to Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period June 8, 2006 Through July 28, 2006
Firm | Address | Date petition accepted | Product
Marlen Research Corp | 9202 Barton Street, Overland Park, KS 66214 | 6/8/06 | Industrial food processing equipment.
Grain Place Foods, Inc | 1904 N. Highway 14, Marquette, NE 68854 | 6/20/06 | Pet foods, whole and rolled cereal grains, popcorn.
Durex, Inc | 5 Stahuber Avenue, Union, NJ 07083 | 6/20/06 | Sheet metal and metal stamping components.
Beck's Waffles of Oklahoma | 7311 N. Harrison, Shawnee, OK 74804 | 6/22/06 | Waffle irons and waffle mix.
Permanent Press, Inc. dba Day Publishing & Training | 2903 Saturn Road, Garland, TX 75041 | 6/22/06 | Educational training books.
Scott Electric Systems, Inc. | 310 Wall Street, Joplin, MO 64801 | 6/22/06 | Electronic products.
American Precision Machining, LLC | 19503 E. 6th Street, Tulsa, OK 74108 | 6/22/06 | Aircraft parts.
TGM, Inc. | 299 Old Forks Road, Hammonton, NJ 08037 | 6/22/06 | Precision sheet metal components.
Laminating Specialties, Inc. and R&Z Acquisition Corp. dba New England Tool Co | 2 New Industrial Road, Warren, RI 02885 | 6/23/06 | Lettered cabinetry and related products.
Radia Enterprises, Inc. dba Career Uniforms | 3800 Juniper Street, Houston, TX 77087 | 6/23/06 | Uniform apparel.
Rose City Archery, Inc | 94931 Quiet Valley Lane, Myrtle Point, OR 94758 | 6/28/06 | Archery products.
Ace Pattern & Foundry of Kansas, Inc | 1001 Sunshine Road, Kansas City, KS 66115 | 6/30/06 | Cast aluminum products.
Overland Products | 1687 Airport Road, P.O. Box 567, Freemont, NE 68026 | 7/12/06 | Metal stamping tools and dies, metal windows, plated components and assemblies.
Eagle Flexible Packaging | 1300 W. Washington Street, West Chicago, IL 60185 | 7/12/06 | Flexographic packaging.
American Lighting Fixture Corp dba Wilshire Manufacturing Corp. | 645 Myles Standish Boulevard, Taunton, MA 02780 | 7/18/06 | Lighting fixtures.
Tri-Americas, Inc. | 2931 Rosa Avenue, El Paso, TX 79905 | 7/20/06 | Denim jeans.
Mechanical Enterprises, Inc. | 2961 Olympic Industrial Drive SE, A, Smryna, GA 30080 | 7/20/06 | Plastic assembly parts for aerospace, military and point of purchase display market.
Cascade Plastics Company, Inc | 7009-45th St Ct East, Fife, WA 98424 | 7/25/06 | Molded plastic products.
GreenLeaf Industries, Inc | 310 Bussell Ferry Road, Lenoir City, TN 37771 | 7/25/06 | Plastic products and fittings.
Market Forge Industries, Inc | 35 Garvey Street, Everett, MA 02149 | 7/25/06 | Industrial cookware equipment.
HMC International | 6247 State Route 233, Rome, NY 13440 | 7/25/06 | Plastic injection molded products.
Revere Copper Products, Inc | One Revere Park, Rome, NY 13440 | 7/25/06 | Semi finished copper and copper alloy products.
Scott Specialties, Inc. | 512 M Street, Belleville, KS 66935 | 7/26/06 | Orthopedic goods.
Q Corporation | 301 River Street, Derby, KS 67037-1528 | 7/27/06 | Parts and accessories for electronic industry.
Billy Goat Industries, Inc | 1803 SW. Jefferson Street, Lee's Summit, MO 64082 | 7/27/06 | Mowers, blowers, vacuums, specialty and accessories/parts.
Southern Bakeries, LLC | 2700 E. 3rd, Hope, AR 71801 | 7/27/06 | Bakery products.
Dempster Industries, Inc | 711 South 6th Street, Beatrice, NE 68310 | 7/27/06 | Pump and pumping equipment.
Scandia Packaging Machinery, Inc | 15 Industrial Road, Fairfield, NJ 07004 | 7/27/06 | High-speed overwrapping system.
The Gaines Company | #77 Route 349, P.O. Box 35, Gaines, PA 16921 | 7/27/06 | Fishing lures.
Covenant Doors and Millwork, Inc | 1604 5th Avenue, P.O. Box 105, Central City, NE 68826 | 7/28/06 | Pump and pumping equipment.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Barry Bird,
Chief Counsel.

[FR Doc. E6-12533 Filed 8-2-06; 8:45 am]

BILLING CODE 3510-24-P